DEPARTMENT OF THE INTERIOR

Bureau of Reclamation

Banks Lake Drawdown, Columbia Basin Project, Washington

AGENCY: Bureau of Reclamation, Interior.

ACTION: Notice of intent to prepare an environmental impact statement.

SUMMARY: Pursuant to section 102(2)(C) of the National Environmental Policy Act (NEPA) of 1969, as amended, the Bureau of Reclamation (Reclamation) proposes to prepare an environmental impact statement (EIS) to evaluate impacts of altering existing operations at Banks Lake to provide for an annual drawdown of up to 10 feet from full pool to enhance flows in the Columbia River during the juvenile out migration of salmonid stocks listed under the Endangered Species Act. The proposed drawdown would occur in August and the elevation of the surface water would remain constant from August 31st through December 31st. This action would constitute a change in existing operations, although it is within existing operating authorization. The proposed drawdown is being evaluated in response to Action item 31 of the Federal Columbia River Power System (FCRPS) Biological Opinion issued by the National Marine Fisheries Service on December 21, 2000.

DATES: A scoping meeting to identify issues to be evaluated in the EIS will be held at:

• Coulee City, WA: May 15, 2001, 7 to 9 p.m.

Written comments will be accepted through May 31, 2001 for inclusion in the scoping summary document. Requests for sign language interpretation for the hearing impaired or other auxiliary aids should be submitted to Jim Blanchard as indicated under ADDRESSES by May 8, 2001.

ADDRESSES: Comments and requests to be added to the mailing list may be submitted to Bureau of Reclamation, Ephrata Field Office, Attention: James Blanchard, 32 C Street, Box 815, Ephrata, WA 98823.

The scoping meeting will be held at the following location:

• Coulee City Middle School Gym, 312 E. Main Street, Coulee City, WA.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

FOR FURTHER INFORMATION CONTACT: James Blanchard, Bureau of Reclamation, telephone: (509) 754-0226, fax: (509) 754-0239. The hearing impaired may contact Mr. Blanchard at the above number via a toll free TTY relay: (800) 833-6388. The meeting facilities are physically accessible to people with disabilities. Please direct requests for sign language interpretation for the hearing impaired, or other special needs, to James Blanchard at the telephone numbers indicated above by May 8, 2001.

SUPPLEMENTARY INFORMATION:

Background

Banks Lake is operated as a re-regulation reservoir for the Columbia Basin Project (CBP). The reservoir is approximately 27 miles long and contains slightly more than one million acre feet of water at full pool. The water supply for the reservoir is stored behind Grand Coulee Dam and is lifted from Franklin Delano Roosevelt Reservoir into Banks Lake. Water is delivered into the Main Canal at Dry Falls Dam on the southern end of Banks Lake and from there delivered to approximately 670,000 acres. This is just over ½ of the authorized lands for the CBP. Although Reclamation is currently authorized to operate the reservoir down to 5 feet below full pool, for the past 5 years it has been operated at close to full pool throughout the year to increase the generating capability of the pump/generators at Grand Coulee. Previous operations were within the top two feet of full pool during irrigation season and then drawing the reservoir level down five feet during the non-irrigation season.

Action 31 of the FCRPS Biological Opinion calls for the assessment of operation of Banks Lake at up to 10 feet below full pool beginning in August of each year. Refill would occur from January through April. The reduction of pumping into Banks Lake will increase the amount of water available to support endangered salmonid stocks in the Columbia River.

Public Involvement

Reclamation is requesting public comment to help identify the significant issues and reasonable alternatives to be addressed in the EIS. Reclamation will summarize comments received during the scoping meeting and from letters of comment received during the scoping period, identified under DATES, into a scoping summary document. This scoping summary will be sent to all who responded during the scoping period, and also will be made available to the public upon request.

Dated: April 19, 2001.
J. Eric Glover,
Acting Regional Director, Pacific Northwest Region.

[FR Doc. 01-10218 Filed 4-24-01; 8:45 am]

BILLING CODE 4310-MN-P